DEPARTMENT OF AGRICULTURE

Animal and Plant Health Inspection Service

[Docket No. APHIS-2019-0076]

Environmental Impact Statement for Predator Damage Management in Oregon

AGENCY: Animal and Plant Health Inspection Service, USDA.

ACTION: Notice of intent for public scoping.

SUMMARY: The Animal and Plant Health Inspection Service is preparing an environmental impact statement analyzing alternatives for predator damage management in Oregon. This notice proposes issues and alternatives for consideration in the environmental impact statement and requests public comments to further delineate the scope of the alternatives, the environmental issues, and other issues of public concern to be considered. This notice also serves to inform the public that the U.S. Forest Service and the U.S. Department of the Interior's Bureau of Land Management have joined as cooperating agencies in the environmental impact statement process.

DATES: We will consider all comments that we receive on or before February 22, 2021.

ADDRESSES: You may submit comments by either of the following methods:

• Federal eRulemaking Portal: Go to http://www.regulations.gov/#!docketDetail;D=APHIS-2019-0076.

• Postal Mail/Commercial Delivery: Send your comment to Docket No. APHIS-2019-0076, State Director—Oregon Predator Damage Management EIS, USDA APHIS-Wildlife Services, 6035 NE 78th CT. Suite 100, Portland, OR 97216.

Supporting documents and any comments received on this topic may be viewed at http://www.regulations.gov/#!docketDetail;D=APHIS-2019-0076 or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Kevin Christensen, Assistant State Director, Wildlife Services, APHIS, USDA, 6035 NE 78th CT. Suite 100, Portland, OR 97216; (503) 820-2751.

SUPPLEMENTARY INFORMATION:

Background

On November 14, 2019, the Animal and Plant Health Inspection Service (APHIS) published in the Federal Register (84 FR 61868, Docket No. APHIS-2019-0076) a notice ¹ informing the public of APHIS' intent to prepare an environmental impact statement (EIS) analyzing alternatives for predator damage management (PDM) in Oregon. We will continue to prepare the EIS under the Council on Environmental Quality's regulations in effect on the date of the notice of intent's publication (November 14, 2019) and APHIS' National Environmental Policy Act Implementing Procedures (7 CFR part 372).

¹ To view the notice, go to https://www.regulations.gov/docket?D=APHIS-2019-0076.

Predators provide many positive ecological, cultural, and aesthetic benefits. They may also be involved in conflicts with humans, including preying upon or harassing livestock; damaging other agricultural resources and property; and threatening human health and safety. In limited instances, predation may impede wildlife management agency efforts to enhance populations of prey species, such as threatened or endangered species or ungulate populations. APHIS' Wildlife Services (APHIS-WS) program evaluates and responds to requests for assistance with PDM from the public, private entities, other agencies, and Native American Tribes within the State of Oregon. APHIS-WS only becomes involved in PDM if it has received a request for assistance and has established appropriate agreements and authorizations with the landowners/managers, applicable agency, or Tribal authorities. Over fiscal years 2015-2019, APHIS-WS responded to more than 6,700 requests per year for information or assistance in reducing conflicts with predators in Oregon.

APHIS-WS in Oregon currently uses an integrated approach to PDM. The approach involves access to the full range of legally available nonlethal and lethal PDM methods to reduce conflicts with coyote, black bear, striped skunk, raccoon, cougar (mountain lion), red fox, bobcat, badger, Virginia opossum, gray fox, feral/free-ranging/hybrid dog, feral and free-ranging domestic cat, spotted skunk, weasel, and gray wolf. APHIS-WS assistance may be in the form of advice, depredation investigations, information on sources of PDM materials, training, and loan of equipment (technical assistance) or hands-on assistance with implementing PDM methods (operational assistance). APHIS-WS applies methods in accordance with applicable Federal, State, Tribal, and local regulations. APHIS-WS develops and annually renews work plans with land management agencies to address specific activities and restrictions required to safely conduct PDM on public lands in a manner consistent with applicable land management agency policies and resource management plans.

APHIS-WS gives preference to practical and effective nonlethal methods. In some cases, concurrent use of nonlethal and lethal methods or immediate use of lethal methods may be the most appropriate solution (e.g., threats to human safety). APHIS-WS may use or recommend the following methods to reduce damage: Changes to agricultural practices, capture and relocation, livestock guarding animals, habitat modification, exclusion, frightening devices, carcass disposal, human behavior modification (e.g., trash management and not feeding wildlife), shooting from the ground or from aircraft, gas cartridges, snares, traps, and trained decoy and tracking dogs. APHIS-WS is not proposing to use M-44s or Compound-1080 in Oregon.

APHIS-WS conducts its activities pursuant to the Acts of March 2, 1931 (7 U.S.C. 8351-8352), as amended, and December 22, 1987 (7 U.S.C. 8353), which established APHIS-WS' authority to provide its services. APHIS-WS also coordinates its PDM activities in Oregon pursuant to memoranda of understanding with the U.S. Forest Service and the U.S. Department of the Interior's Bureau of Land Management (BLM). APHIS-WS also conducts its activities in accordance with applicable Federal and State laws and regulations.

Proposed Action

APHIS-WS is preparing an EIS to evaluate alternatives for agency involvement in managing damage and conflicts associated with predators in Oregon. APHIS-WS will serve as the lead Federal agency for purposes of the National Environmental Policy Act (NEPA), as amended (42 U.S.C. 4321 et seq.). The U.S. Forest Service and BLM are cooperating agencies on the EIS. Once completed, the EIS will replace APHIS-WS' existing environmental assessments on predator damage management and the separate environmental assessment on wolf damage management in Oregon.²

² Environmental Assessments replaced by the EIS will include Management of Black Bear Damage to Timber in Western Oregon (2003), Implementation of the Oregon Cougar Management Plan (2007), Wildlife Damage Management in Roseburg (1997), Wildlife Damage Management in Northwest District (1997), Wildlife Damage Management of the John Day ADC District in Eastern Oregon (1996), and Gray Wolf Damage Management in Oregon (2014).

BLM intends to adopt the EIS and analysis to streamline and facilitate future site-specific NEPA analysis and implementation actions on BLM-administered lands for all BLM Oregon districts. The BLM in Oregon may authorize APHIS-WS in Oregon to perform certain wildlife damage control activities on BLM-administered lands in accordance with a separately issued BLM Record of Decision.

Scoping

We encourage comments that will assist in further delineating the scope of alternatives, environmental impacts, and other issues of public concern. Please also submit any scientific data, research, or studies that you believe are relevant to the analysis. Comments, information, and analyses provided should be as specific as possible to explain why the information is important to the analysis.

Alternatives

The EIS will consider a range of reasonable alternatives. The EIS will include a “no action” alternative, which is defined as a continuation of the ongoing predator damage management practices described above, in accordance with the Council on Environmental Quality's regulations for implementing the procedural provisions of NEPA (40 CFR parts 1500-1508). We are considering the following alternatives for comparative analysis in the EIS:

• APHIS-WS in Oregon continues the current PDM activities as previously analyzed under NEPA;

• APHIS-WS in Oregon continues the current PDM activities and includes additional wolf damage management activities aligned with U.S. Fish and Wildlife Service management authorities and with State rules and statutes identified in the 2019 Oregon Wolf Conservation and Management Plan;

• APHIS-WS in Oregon conducts only non-lethal PDM activities;

• APHIS-WS in Oregon conducts only non-lethal PDM activities, except in cases involving the protection of human/pet health and safety or protection of federally threatened or endangered species; or

• APHIS-WS in Oregon conducts no PDM activities in Oregon.

We welcome additional recommendations for management alternatives.

Issues for Detailed Consideration in the Analysis

In considering reasonable alternatives, the EIS will analyze the effects of APHIS-WS' PDM activities in Oregon on important environmental issues and other issues of public concern. APHIS-WS and the cooperating agencies have identified the following issues for consideration in the EIS:

• Impacts of intentional take on State and regional predator populations;

• Effects on nontarget animal populations, including species federally listed under the Endangered Species Act (61 U.S.C. 1531 et seq.);

• Impacts of the alternatives on predator-prey relationships and ecosystem processes (e.g., trophic cascades);

• Humaneness and ethical perspectives regarding PDM activities;

• Risks and benefits to human and pet safety from PDM activities;

• Impacts on Special Management Areas, including Wilderness and Wilderness Study Areas; and

• Sociocultural impacts, including impacts on values, hunting, non-consumptive uses, aesthetic impacts, Native American cultural uses, and economic effects.

We encourage the public to submit comments identifying additional issues.

After the comment period closes, APHIS-WS will review and consider all comments timely received and any other relevant information in the development of the EIS. All comments received will be available for public review as required and allowed by law. Upon completion of the draft EIS, APHIS-WS will publish a notice announcing its availability and an opportunity to comment in the Federal Register and via the GovDelivery.com email registry. To receive notices regarding this project or other Wildlife Services NEPA projects, please register at https://public.govdelivery.com/accounts/USDAAPHIS/subscriber/new.

The EIS will be prepared in accordance with: (1) NEPA, as amended (42 U.S.C. 4321 et seq.); (2) regulations of the Council on Environmental Quality for implementing the procedural provisions of NEPA (40 CFR parts 1500-1508) in effect at the time of the publication of our notice of intent (November 14, 2019); (3) USDA regulations implementing NEPA (7 CFR part 1b); and (4) APHIS' NEPA Implementing Procedures (7 CFR part 372).

Done in Washington, DC, this 13th day of January 2021
Michael Watson,
Acting Administrator, Animal and Plant Health Inspection Service.

[FR Doc. 2021-01148 Filed 1-19-21; 8:45 am]

BILLING CODE 3410-34-P